DEPARTMENT OF TRANSPORTATION

Federal Railroad Administration

Notice of Funding Opportunity for Railroad Trespassing Enforcement Grant Program

AGENCY: Federal Railroad Administration (FRA), Department of Transportation (DOT).

ACTION: Notice of Funding Opportunity (notice or NOFO).

SUMMARY: This notice details the application requirements and procedures to obtain grant funding for eligible projects under the Railroad Trespassing Enforcement Grant Program. Funding for this program totaling $150,000 is provided by the Consolidated Appropriations Act, 2019. The opportunities described in this notice are available under Catalog of Federal Domestic Assistance number 20.301, “Rail Safety Grants.”

DATES: Applications for funding under this solicitation are due no later than 5:00 p.m. Eastern Time (ET), on December 23, 2019. Applications for funding received after 5:00 p.m. ET on December 23, 2019 will not be considered for funding. See Section D of this notice for additional information on the application process.

ADDRESSES: Applications must be submitted via www.Grants.gov. Only applicants who comply with all submission requirements described in this notice and submit applications through Grants.gov will be eligible for award. For any supporting application materials that an applicant is unable to submit via Grants.gov, an applicant may submit an original and two (2) copies to Amy Houser, Office of Program Delivery, Federal Railroad Administration, 1200 New Jersey Avenue SE, Room W36-412, Washington, DC 20590. However, due to delays caused by enhanced screening of mail delivered via the U.S. Postal Service, applicants are advised to use other means of conveyance (such as courier service) to assure timely receipt of materials.

FOR FURTHER INFORMATION CONTACT: For further information regarding this notice, please contact Michail Grizkewitsch, Office of Railroad Safety, Federal Railroad Administration, 1200 New Jersey Avenue SE, Room W33-446, Washington, DC 20590; email: Michail.grizkewitsch@dot.gov; phone: (202) 493-1370. Grant application submission and processing questions should be addressed to Ms. Amy Houser, Office of Program Delivery, Federal Railroad Administration, 1200 New Jersey Avenue SE, Room W36-412, Washington, DC 20590; email: amy.houser@dot.gov; phone: (202) 493-0303.

SUPPLEMENTARY INFORMATION:

Notice to applicants: FRA recommends that applicants read this notice in its entirety prior to preparing application materials. Definitions of key terms used throughout the NOFO are provided in Section A(2) below. These key terms are capitalized throughout the NOFO. There are several administrative prerequisites and eligibility requirements described herein that applicants must comply with to submit an application. Additionally, applicants should note that the required Project Narrative component of the application package may not exceed 25 pages in length.

Table of Contents:

A. Program Description

B. Federal Award Information

C. Eligibility Information

D. Application and Submission Information

E. Application Review Information

F. Federal Award Administration Information

G. Federal Awarding Agency Contacts

H. Other Information

A. Program Description

1. Overview

Trespassing on a railroad's private property and along railroad rights-of-way is the leading cause of rail-related fatalities in America. Since 1997, more people have been fatally injured each year by trespassing than in motor vehicle collisions with trains at highway-rail grade crossings. Nationally, approximately 500 trespassing deaths occur each year.

Trespassers are those who are on railroad property without permission. They are most often people who walk across or along railroad tracks as a shortcut to another destination. They also may be engaged in another activity such as loitering, hunting, bicycling, snowmobiling, or all-terrain vehicle riding.

From August 4 to August 6, 2015, FRA sponsored the 2015 Right-of-Way (ROW) Fatality and Trespass Prevention Workshop in Charlotte, North Carolina (https://www.fra.dot.gov/conference/row/index.shtml). One of the main objectives of the workshop was to present best practices and solicit new ideas about new or expanded initiatives, strategies, and programs for trespass prevention. The workshop provided a variety of presentations which covered key topic areas such as community outreach, enforcement, hazard management, infrastructure design and technology, pedestrian issues, and intentional deaths/acts.

The enforcement session of the workshop covered effective safety and security initiatives to identify, apprehend, prosecute, and track trespassers along railroad ROWs. One of the top recommended actions from the enforcement session was to “establish a federally funded grant program designed specifically for the enforcement of state, county, or municipal laws relating to railroad trespass violations. In response to that recommendation, FRA initiated the Fiscal Year 2018 Law Enforcement Strategies for Reducing Railroad Trespassing Pilot Grant Program (Pilot Program).

Additionally, in its report accompanying the Fiscal Year 2018 Department of Transportation (DOT) appropriation (Consolidated Appropriations Act, 2018, Pub. L. 115-141), the U.S. House of Representatives Committee on Appropriations directed FRA “to identify and study the causal factors that lead to trespassing incidents on railroad property . . . .” ¹ In that same report, the Committee also directed FRA to develop a national strategy that included milestones, timelines, and metrics to define success in preventing trespasser incidents and submit it to the House and Senate Committees on Appropriations. Further, the legislative history accompanying the 2019 DOT Appropriation (Consolidated Appropriations Act, 2019, Pub. L. 116-6) (2019 Appropriation), allocated $500,000 for FRA to build on its trespasser prevention strategy including “by developing a risk model that includes . . . enforcement mitigation efforts to reduce trespasser incidents.” ²

¹ H.R. Rep. No. 115-237, at 51 (2017).

² H.R. Rep. No. 116-9, at 909 (2019) (Conf. Rep.); H.R. Rep. No. 115-750 at 49 (2019).

In FRA's National Strategy to Prevent Trespassing on Railroad Property Report to Congress (October 2018),³ FRA identified four strategic areas: (1) Data gathering and analysis; (2) community site visits; (3) funding; and (4) partnerships with stakeholders. Under the Strategic Area 3—Funding, FRA stated it will work through the Federal budget cycles to identify funding to strengthen grant programs for trespasser mitigation, with the intent to implement strategies such as engineering solutions, law enforcement overtime, school resource officers, and outreach. As a result, under the Railroad Trespassing Enforcement Grant Program, FRA will provide grants ⁴ for law enforcement wages in communities at risk for rail trespassing related incidents and fatalities.

³ https://www.fra.dot.gov/eLib/Details/L19817.

⁴ The term “grant” is used throughout this document and is intended to reference funding awarded through a grant agreement, as well as funding awarded through a cooperative agreement.

The objective of this program is to reduce trespassing along the rail ROWs thereby reducing trespassing safety related incidents. FRA intends to award funds to projects most likely to achieve maximum benefits possible, thereby meeting, in part, several milestones, in its National Strategy to Prevent Trespassing on Railroad Property Report to Congress:

• Milestone 11: Work through the Federal budget cycles and reauthorization process to identify funds to strengthen grant programs that provide funding for trespasser mitigation, such as engineering solutions, law enforcement overtime, school resource officers, and outreach.

• Milestone 14: Provide information on availability and process for applying for FRA grants and other funding (e.g., law enforcement and Consolidated Rail Infrastructure and Safety Improvements grants) during focused surveys and outreach.

• Milestone 17: Partner with law enforcement and other organizations (e.g., International Association of Chiefs of Police, National Organization of Youth Safety) to collaborate on effective trespass prevention and mitigation measures (e.g., enforcement of trespass laws, methods to raise awareness and more effectively reach younger population to prevent trespassing).

The funded agencies will perform rail trespassing enforcement activities and report those activities and associated benefits to FRA. The activities performed in this Grant Program and their benefits will not only reduce the number of trespasser incidents but will also help FRA to target and determine the effectiveness of various rail trespass prevention activities, consistent with FRA's Strategy to Prevent Trespassing on Railroad Property.

Funding for the Railroad Trespassing Enforcement Grant Program is made available by the 2019 Appropriation, and grants under this NOFO are authorized in 49 U.S.C. 103(i).

2. Definitions of Key Terms

a. “Hot Spots” for the purposes of this NOFO, means locations along the railroad right-of-way where the risk of trespassing or collision as a result of trespassing is high.

b. “Enforcement Activities” means investigating compliance with, and enforcing, rail trespass-related laws.

B. Federal Award Information

1. Available Award Amount

The total funding available for awards under this NOFO is $150,000. Should additional funds become available after the release of this NOFO, FRA may elect to award such additional funds to applications received under this NOFO.

2. Award Size

There are no predetermined amounts for awards for each applicant, and FRA may choose to select one or more eligible projects for funding. FRA may not be able to award grants for all eligible applications, nor even to all applications that meet or exceed the stated evaluation criteria (see Section E, Application Review Information).

3. Award Type

FRA will make awards for projects selected under this notice through grant agreements and/or cooperative agreements. Grant agreements are used when FRA does not expect to have substantial Federal involvement in carrying out the funded activity. Cooperative agreements allow for substantial Federal involvement in carrying out the agreed upon investment, including technical assistance, review of interim work products, and increased program oversight. The funding provided under this NOFO will be made available to grantees on a reimbursable basis. Applicants must certify that their expenditures are allowable, allocable, reasonable, and necessary to the approved project before seeking reimbursement from FRA. See an example of standard terms and conditions for FRA grant awards at: https://www.fra.dot.gov/eLib/Details/L19057.

C. Eligibility Information

This section of the notice explains the requirements for submitting an eligible grant application. Applications that do not meet the requirements in this section will be considered ineligible for funding. Instructions for conveying eligibility information to FRA are detailed in Section D of this NOFO.

1. Eligible Applicants

State, county, municipal, local, and regional law enforcement agencies are the eligible applicants under this notice. At least 1 mile of FRA-regulated railroad track must be within the boundaries of the applying agency's jurisdiction. In an effort to target the benefits of this grant towards communities at high risk of rail trespass related incidents and casualties, FRA will give preference to law enforcement agencies from one of the 10 states with the highest incidence of rail trespass related casualties (as reported in the Rail Accident Incident Reporting System at https://www.fra.dot.gov/Page/P0037) from 2013 to 2018. Those states are:

i. California

ii. Texas

iii. Illinois

iv. Florida

v. New York

vi. Pennsylvania

vii. Ohio

viii. New Jersey

ix. North Carolina

x. Georgia

See Section C.3, “Other—Project Eligibility” for information regarding the eligibility of projects.

2. Cost Sharing or Matching

Neither cost sharing nor matching is a requirement for this Grant Program. The funds provided under this NOFO are available only for eligible project costs of eligible Railroad Trespassing Enforcement Grant Program projects. The estimated total cost of a project must be based on the best available information.

3. Other—Project Eligibility

Funding under this NOFO is limited to hourly wages for law enforcement officials to undertake Enforcement Activities at Hot Spots within their respective jurisdictions or at areas that demonstrate a rail trespassing problem in their community on FRA-regulated track. Enforcement Activities may include investigating incidents or reports of trespassing, as well as providing warnings and citations to the trespassers for violating rail-related trespass laws.

The hourly rate for law enforcement officers performing Enforcement Activities should be limited to the officer's regular and overtime wage rate (e.g., 1.5 times the base rate). Administrative costs are capped at 1% of the total grant award. Projects must be completed within the six-month period of performance under the grant.

Court costs and equipment are not eligible under this grant. Further, funding under this NOFO may not be used for costs that are included in, or used to meet cost sharing or matching requirements of, any other Federally-financed award or program. If the applicant is seeking additional funding for a project that has already received Federal financial assistance such as the Pilot Program, costs associated with the scope of work for the existing Federal award are not eligible for funding under this NOFO. Only new scope (e.g., hourly wages incurred during the project performance period for a grant awarded under this NOFO) is eligible for funding under this NOFO.

D. Application and Submission Information

Required documents for the application are outlined in the following paragraphs. Applicants must complete and submit all components of the application. See Section D(2) for the application checklist. FRA welcomes the submission of additional relevant supporting documentation, such as letters of support from partnering organizations that will not count against the Project Narrative 25-page limit.

1. Address To Request Application Package

Applicants must submit all application materials through http://www.Grants.gov no later than 5:00 p.m. ET, on December 23, 2019. Applicants are strongly encouraged to apply early to ensure that all materials are received before the application deadline. General information for submitting applications through Grants.gov can be found at: https://www.fra.dot.gov/Page/P0270.

For any supporting application materials that an applicant cannot submit via Grants.gov, an applicant may submit an original and two (2) copies to Ms. Amy Houser, Office of Program Delivery, Federal Railroad Administration, 1200 New Jersey Avenue SE, Room W36-412, Washington, DC 20590. However, due to delays caused by enhanced screening of mail delivered via the U.S. Postal Service, FRA advises applicants to use other means of conveyance (such as courier service) to assure timely receipt of materials before the application deadline. Additionally, if documents can be obtained online, providing instructions to FRA on how to access files on a referenced website may also be sufficient.

2. Content and Form of Application Submission

FRA strongly advises applicants to read this section carefully. Applicants must submit all required information and components of the application package to be considered for funding. Required documents for an application package are outlined in the checklist below.

• Project Narrative (see D.2.a)

• SF424—Application for Federal Assistance

• 424A—Budget Information for Non-Construction projects

• SF 424B—Assurances for Non-Construction projects

• FRA's Additional Assurances and Certifications

• SF LLL—Disclosure of Lobbying Activities

a. Project Narrative

This section describes the minimum content required in the Project Narrative of the grant application. The Project Narrative must follow the basic outline below to address the program requirements and assist evaluators in locating relevant information.

I. Cover Page | See D.2.a.i
II. Project Summary | See D.2.a.ii
III. Applicant Eligibility Criteria | See D.2.a.iii
IV. Project Eligibility Criteria | See D.2.a.iv
V. Detailed Project Description | See D.2.a.v
VI. Evaluation and Selection Criteria | See D.2.a.vi

The above content must be provided in a narrative statement submitted by the applicant. The Project Narrative may not exceed 25 pages in length (excluding cover pages, table of contents, and supporting documentation). FRA will not review or consider Project Narratives beyond the 25-page limitation. If possible, applicants should submit supporting documents via website links rather than hard copies. If supporting documents are submitted, applicants must clearly identify the page number of the relevant portion of the supporting documentation in the Project Narrative. The Project Narrative must adhere to the following outline.

i. Cover Page: Include a cover page that lists the following elements in either a table or formatted list:

Project Title

Applicant

Amount of Federal funding requested

City(ies), State(s) where the project is located

Congressional district(s) where the project is located

ii. Project Summary: Provide a 4-6 sentence summary of the proposed project. Include challenges the proposed project aims to address, and summarize the intended outcomes and anticipated benefits that will result from the proposed project.

iii. Applicant Eligibility Criteria: Explain how the applicant meets the applicant eligibility criteria outlined in Section C(1) of this notice;

iv. Project Eligibility Criteria: Explain how the project meets the project eligibility criteria in Section C(3) of this notice.

v. Detailed Project Description: Provide a detailed project description. This detailed description should provide, at a minimum, additional background on the challenges the project aims to address, the expected beneficiaries of the project, the specific components and elements of the project, and any other information the applicant deems necessary to justify the proposed project. This information could include counts of trespass incidents and casualties, close calls and media coverage of high-visibility encounters. Include geospatial data for the project showing trespass Hot Spots. If applicable, the project description must also cite specific DOT National Highway-Rail Crossing Inventory information for trespass Hot Spots at grade crossings, including the name of the railroad that owns the infrastructure (or the crossing owner, if different from the railroad), the name of the primary operating railroad, the DOT National Highway-Rail Crossing Inventory Number, and the name of the roadway at the crossing. Applicants can search for data to meet this requirement at the following link: http://safetydata.fra.dot.gov/OfficeofSafety/default.aspx. Be specific regarding the relevance or relationship of the proposed project to other investments, as well as the changes that are anticipated to result from the project. Provide a detailed summary of all work completed to date, including the project's previous accomplishments and funding history including Federal financial assistance, and a chronology of funding events (e.g., grants and financing) and key documents produced. An applicant should explain how the proposed scope of work relates to work previously receiving Federal financial assistance. Finally, the applicant must identify the metrics that will be used to measure the success of the project.

vi. Evaluation and Selection Criteria: Include a thorough discussion of how the proposed project meets all the evaluation criteria, as outlined in Section E of this notice. If an application does not sufficiently address the evaluation criteria and the selection criteria, it is unlikely to be a competitive application.

b. Additional Application Elements

Applicants must include the following documents in the application package:

i. SF 424—Application for Federal Assistance;

ii. SF 424A—Budget Information for Non-Construction;

iii. SF 424B—Assurances for Non-Construction;

iv. FRA's Additional Assurances and Certifications; and

v. SF LLL—Disclosure of Lobbying Activities.

Forms needed for the electronic application process are at www.grants.gov.

c. Post-Selection Requirements

See Section F(2) for post-selection requirements.

3. Unique Entity Identifier, System for Award Management (SAM), and Submission Instructions

To apply for funding through Grants.gov, applicants must be properly registered in SAM before submitting an application, provide a valid unique entity identifier in its application, and continue to maintain an active SAM registration all as described in detail below. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension.

FRA may not make a grant award to an applicant until the applicant has complied with all applicable Data Universal Numbering System (DUNS) and SAM requirements and if an applicant has not fully complied with the requirements by the time the Federal awarding agency is ready to make a Federal award, the Federal awarding agency may determine that the applicant is not qualified to receive a Federal award and use that determination as a basis for making a Federal award to another applicant. (Please note that if a Dun & Bradstreet DUNS number must be obtained or renewed, this may take a significant amount of time to complete.) Late applications that are the result of failure to register or comply with Grants.gov applicant requirements in a timely manner will not be considered. If an applicant has not fully complied with the requirements by the submission deadline, the application will not be considered. To submit an application through Grants.gov, applicants must:

a. Obtain a DUNS number. A DUNS number is required for Grants.gov registration. The Office of Management and Budget requires that all businesses and nonprofit applicants for Federal funds include a DUNS number in their applications for a new award or renewal of an existing award. A DUNS number is a unique nine-digit sequence recognized as the universal standard for identifying and keeping track of entities receiving Federal funds. The identifier is used for tracking purposes and to validate address and point of contact information for Federal assistance applicants, recipients, and sub-recipients. The DUNS number will be used throughout the grant life cycle. Obtaining a DUNS number is a free, one-time activity. Applicants may obtain a DUNS number by calling 1-866-705-5711 or by applying online at http://www.dnb.com/us.

b. Register with the SAM at www.SAM.gov. All applicants for Federal financial assistance must maintain current registrations in the SAM database. An applicant must be registered in SAM to successfully register in Grants.gov. The SAM database is the repository for standard information about Federal financial assistance applicants, recipients, and sub-recipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award. Information about SAM registration procedures is at www.sam.gov.

c. Create a Grants.gov username and password. Applicants must complete an Authorized Organization Representative (AOR) profile on www.Grants.gov and create a username and password. Applicants must use the organization's DUNS number to complete this step. Additional information about the registration process is at: http://www.grants.gov/web/grants/applicants/individual-registration.html.

d. Acquire Authorization for your AOR from the E-Business Point of Contact (E-Biz POC). The E-Biz POC at the applicant's organization must respond to the registration email from Grants.gov and login at www.Grants.gov to authorize the applicant as the AOR. Please note there can be more than one AOR for an organization.

e. Submit an Application Addressing All the Requirements Outlined in this NOFO. If an applicant experiences difficulties at any point during this process, please call the Grants.gov Customer Center Hotline at 1-800-518-4726, 24 hours a day, 7 days a week (closed on Federal holidays). For information and instructions on each of these processes, please see instructions at: http://www.grants.gov/web/grants/applicants/apply-for-grants.html

Note: Please use generally accepted formats such as .pdf, .doc, .docx, .xls, .xlsx and .ppt, when uploading attachments. While applicants may imbed picture files, such as .jpg, .gif, and .bmp, in document files, applicants should not submit attachments in these formats. Additionally, the following formats will not be accepted: .com, .bat, .exe, .vbs, .cfg, .dat, .db, .dbf, .dll, .ini, .log, .ora, .sys, and .zip.

4. Submission Dates and Times

Applicants must submit complete applications in their entirety to www.Grants.gov no later than 5:00 p.m. ET, on December 23, 2019. Applicants will receive a system-generated acknowledgement of receipt. FRA reviews www.Grants.gov information on dates/times of applications submitted to determine timeliness of submissions. Late applications will be neither reviewed nor considered. Delayed registration is not an acceptable reason for late submission. Applicants are strongly encouraged to apply early to ensure that all materials are received before this deadline.

To ensure a fair competition of limited discretionary funds, the following conditions are not valid reasons to permit late submissions: (1) Failure to complete the Grants.gov registration process before the deadline; (2) failure to follow Grants.gov instructions on how to register and apply as posted on its website; (3) failure to follow all the instructions in this NOFO; or (4) technical issues experienced with the applicant's computer or information technology environment.

5. Intergovernmental Review

Executive Order 12372 requires applicants from state and local units of government or other organizations providing services within a State to submit a copy of the application to the State Single Point of Contact (SPOC), if one exists, and if this program has been selected for review by the State. Applicants must contact their State SPOC to determine if the program has been selected for State review.

6. Funding Restrictions

Consistent with 2 CFR 200.458, FRA will only approve pre-award costs if such costs are incurred pursuant to the negotiation and in anticipation of the grant agreement and if such costs are necessary for efficient and timely performance of the scope of work. Under 2 CFR 200.458, grant recipients must seek written approval from the FRA for pre-award activities to be eligible for reimbursement under the grant. Enforcement Activities initiated prior to the execution of a grant or without written approval may not be eligible for reimbursement or included as a grantee's matching contribution, if applicable. Additionally, funding will not be provided for equipment, administrative, or court costs. Further, funding under this NOFO may not be used for costs that are included as a cost or used to meet cost sharing or matching requirements of any other Federally-financed project or program.

7. Other Submission Requirements

If an applicant experiences difficulties at any point during this process, please call the Grants.gov Customer Center Hotline at 1-800-518-4726, 24 hours a day, 7 days a week (closed on Federal holidays). For information and instructions on each of these processes, please see instructions at: http://www.grants.gov/web/grants/applicants/apply-for-grants.html. See section D.1 of this NOFO for information on where applications must be submitted.

E. Application Review Information

1. Criteria

a. Eligibility and Completeness Review

FRA will first screen each application for eligibility (eligibility requirements are outlined in Section C of this notice) and completeness (application documentation and submission requirements are outlined in Section D of this notice).

b. Evaluation Criteria

FRA subject-matter experts will evaluate all eligible and complete applications using the evaluation criteria outlined in this section. FRA will analyze each application against the following evaluation criteria:

i. Technical Merit. FRA will evaluate application information for the degree to which:

(A) The application is thorough and responsive to all the requirements outlined in this notice.

(B) The tasks outlined in the project narrative are appropriate to achieve the expected safety benefits of the proposed project.

(C) The proposed costs or level of effort are realistic and sufficient to accomplish the tasks.

ii. Project Benefits. FRA intends to award funds to projects that achieve the maximum benefits possible. FRA will evaluate the extent to which:

(A) The application contains data and/or supporting information to describe the safety risk posed by rail trespassing in the applicant's jurisdiction.

(B) The applicant describes reasonably expected safety benefits of the project, namely how initiatives funded by this program will reduce trespassing on the rail ROW.

(C) The applicant demonstrates a cooperative relationship with stakeholders (e.g., railroad owners and operators, adjacent property owners, municipal governments).

c. Selection Criteria

In addition to the eligibility and completeness review and the evaluation criteria outlined in this section, the FRA Administrator (or his designee) will determine the final selection of projects for program funding.

i. FRA will give preference to eligible projects located in one of the 10 states listed in Section C(1).

ii. After applying the above preference, FRA will take into account the following key Departmental objectives:

(A) Using innovative approaches to improve safety and expedite project delivery; and,

(B) Holding grant recipients accountable for their performance and achieving specific, measurable outcomes identified by grant applicants.

iii. In determining the allocation of program funds, FRA will also consider geographic diversity, diversity in the size of the systems receiving funding, the applicant's receipt of other competitive awards, projects located in or that support transportation service in a qualified opportunity zone designated pursuant to 26 U.S.C. 1400Z-1.

2. Review and Selection Process

FRA will review the applications as follows:

a. Screen applications for completeness and eligibility;

b. Evaluate eligible applications (completed by technical panels applying the evaluation criteria); and

c. Select projects for funding (completed by the FRA Administrator or his designee applying additional selection criteria).

3. Reporting Matters Related to Integrity and Performance

Before making a Federal award with a total amount of Federal share greater than the simplified acquisition threshold (see 2 CFR 200.88 Simplified Acquisition Threshold), FRA will review and consider any information about the applicant that is in the designated integrity and performance system accessible through SAM (currently the Federal Awardee Performance and Integrity Information System (FAPIIS)). See 41 U.S.C. 2313.

An applicant, at its option, may review information in the designated integrity and performance systems accessible through SAM and comment on any information about itself that a Federal awarding agency previously entered and is currently in the designated integrity and performance system accessible through SAM.

FRA will consider any comments by the applicant, in addition to the other information in the designated integrity and performance system, in making a judgment about the applicant's integrity, business ethics, and record of performance under Federal awards when completing the review of risk posed by applicants as described in 2 CFR 200.205.

F. Federal Award Administration Information

1. Federal Award Notices

FRA will announce applications selected for funding in a press release and on the FRA website after the application review period. FRA will contact applicants with successful applications after announcement with information and instructions about the award process. This notification is not an authorization to begin proposed project activities. FRA requires satisfaction of applicable requirements by the applicant and a formal agreement signed by both the grantee and the FRA, including an approved scope, schedule, and budget, to obligate the grant.

The period of performance for grants awarded under this notice will be six months. FRA will only consider written requests to extend the period of performance with specific and compelling justifications for why an extension is required. Any obligated funding not spent by the grantee and reimbursed by the FRA upon completion of the grant work will be de-obligated.

2. Administrative and National Policy Requirements

In connection with any program or activity conducted with or benefiting from funds awarded under this notice, recipients of funds must comply with all applicable requirements of Federal law, including, without limitation, the Constitution of the United States; the conditions of performance, nondiscrimination requirements, and other assurances made applicable to the award of funds in accordance with regulations of DOT; and applicable Federal financial assistance and contracting principles promulgated by the Office of Management and Budget. In complying with these requirements, recipients, in particular, must ensure that no concession agreements are denied or other contracting decisions made on the basis of speech or other activities protected by the First Amendment. If DOT determines that a recipient has failed to comply with applicable Federal requirements, DOT may terminate the award of funds and disallow previously incurred costs, requiring the recipient to reimburse any expended award funds.

Examples of administrative and national policy requirements include: 2 CFR part 200; procurement standards; compliance with Federal civil rights laws and regulations; disadvantaged business enterprises; debarment and suspension; drug-free workplace; FRA's and OMB's Assurances and Certifications; Americans with Disabilities Act; safety requirements; the National Environmental Policy Act; environmental justice and the Buy American Act, 41 U.S.C. 8301-8305.

See an example of standard terms and conditions for FRA grant awards at https://www.fra.dot.gov/eLib/details/L05285.

3. Reporting

a. Progress Reporting on Grant Activity

Each applicant selected for a grant will be required to comply with all standard FRA reporting requirements, including quarterly progress reports, quarterly Federal financial reports, and interim and final performance reports, as well as all applicable auditing, monitoring and close out requirements. Reports may be submitted electronically.

b. Additional Reporting

Applicants selected for funding are required to comply with all reporting requirements in the standard terms and conditions for FRA grant awards including 2 CFR 180.335 and 2 CFR 180.350. See an example of standard terms and conditions for FRA grant awards at: https://www.fra.dot.gov/eLib/details/L05285.

c. Performance Reporting

Each applicant selected for funding must collect information and report on the project's performance using measures mutually agreed upon by FRA and the grantee to assess progress in achieving strategic goals and objectives. Performance reporting must include the following information for Enforcement Activities performed using the grant funding:

• Date, time, number of officers, location and description of Enforcement Activity;

• Justification or reason for selected Enforcement Activity;

• Number of contacts (encounters with trespassers);

• Number of warnings and/or citations issued; and

• The deterrence effect of such activities and method for measuring such deterrence. The grantee must explain how they determine deterrence effect.

G. Federal Awarding Agency Contacts

For further information regarding this notice and the Grant Program, please contact Michail Grizkewitsch, Office of Railroad Safety, Federal Railroad Administration, 1200 New Jersey Avenue SE, Room W33-446, Washington, DC 20590; email: Michail.grizkewitsch@dot.gov; phone: (202) 493-1370. Grant application submission and processing questions should be addressed to Ms. Amy Houser, Office of Program Delivery, Federal Railroad Administration, 1200 New Jersey Avenue SE, Room W36-412, Washington, DC 20590; email: amy.houser@dot.gov; phone: (202) 493-0303.

H. Other Information

All information submitted as part of or in support of any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions.

FRA protects such information from disclosure consistent with applicable law. In the event FRA receives a Freedom of Information Act (FOIA) request for the information, FRA will follow the procedures described in its FOIA regulations at 49 CFR 7.17. Only information that is ultimately determined to be confidential under that procedure will be exempt from disclosure under FOIA.

Issued in Washington, DC.
Ronald L. Batory,
Administrator, Federal Railroad Administration.

[FR Doc. 2019-22925 Filed 10-21-19; 8:45 am]

BILLING CODE 4910-06-P